DEPARTMENT OF ENERGY

Federal Energy Regulatory Commission

[Docket No. IC20-23-000]

Commission Information Collection Activities (FERC-725R); Comment Request

AGENCY: Federal Energy Regulatory Commission, DOE.

ACTION: Notice of information collection and request for comments.

SUMMARY: In compliance with the requirements of the Paperwork Reduction Act of 1995, the Federal Energy Regulatory Commission (Commission or FERC) is soliciting public comment on the information collection FERC-725R (Mandatory Reliability Standards: BAL Reliability Standards) and will be submitting the information collection to the Office of Management and Budget (OMB) for review.

DATES: Comments on the collection of information are due October 27, 2020.

ADDRESSES: A copy of the comments should be submitted to the Commission, in Docket No. IC20-23-000, by one of the following methods:

• eFiling at Commission's Website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions:

All submissions must be formatted and filed in accordance with submission guidelines at http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, and telephone at (202) 502-8663.

SUPPLEMENTARY INFORMATION:

Title: FERC-725R, Mandatory Reliability Standards: BAL Reliability Standards.¹

¹ In Docket No. RD20-9-000, Reliability Standard BAL-003-2 is being considered for approval. (A Notice requesting comments on the changes proposed in Docket No. RD20-9-000 is posted in eLibrary at https://elibrary.ferc.gov/idmws/common/OpenNat.asp?fileID=15605347.) Those changes are addressed separately in Docket No. RD20-9-000 and are not addressed in this notice in Docket No. IC20-23-000.

OMB Control No.: 1902-0268

Type of Request: Three-year renewal request for the FERC-725R information collection requirements, with no changes to the reporting and recordkeeping requirements.

Abstract:

On August 8, 2005, Congress enacted into law the Electricity Modernization Act of 2005, which is Title XII, Subtitle A, of the Energy Policy Act of 2005 (EPAct 2005).² EPAct 2005 added a new section 215 to the FPA, which required a Commission-certified Electric Reliability Organization (ERO) to develop mandatory and enforceable Reliability Standards, which are subject to Commission review and approval. Once approved, the Reliability Standard may be enforced by the ERO subject to Commission oversight, or the Commission can independently enforce Reliability Standards.³

² Energy Policy Act of 2005, Public Law 109-58, Title XII, Subtitle A, 119 Stat. 594, 941 (codified at 16 U.S.C. 824o).

³ 16 U.S.C. 824o(e)(3).

On February 3, 2006, the Commission issued Order No. 672, implementing section 215 of the FPA.⁴ Pursuant to Order No. 672, the Commission certified one organization, North American Electric Reliability Corporation (NERC), as the ERO.⁵ The Reliability Standards developed by the ERO and approved by the Commission apply to users, owners and operators of the Bulk-Power System as set forth in each Reliability Standard.

⁴ Rules Concerning Certification of the Electric Reliability Organization; and Procedures for the Establishment, Approval, and Enforcement of Electric Reliability Standards, Order No. 672, FERC Stats. & Regs. 31,204, order on reh'g, Order No. 672-A, FERC Stats. & Regs. 31,212 (2006).

⁵ North American Electric Reliability Corp., 116 FERC 61,062, order on reh'g and compliance, 117 FERC 61,126 (2006), order on compliance, 118 FERC 61,190, order on reh'g, 119 FERC 61,046 (2007), aff'd sub nom. Alcoa Inc. v. FERC, 564 F.3d 1342 (D.C. Cir. 2009).

FERC-725R includes the following nation-wide Reliability Standards: ⁶

⁶ There are also regional BAL Reliability Standards. They are not included in FERC-725R and are not discussed here. The regional BAL Reliability Standards are covered under other OMB Control Nos.

• BAL-001-2,⁷ Real Power Balancing Control Performance.

⁷ It was approved in Docket No. RM14-10.

Reliability Standard BAL-001-2 is designed to ensure that applicable entities balance generation and load by maintaining system frequency within narrow bounds around a scheduled value, and it improves reliability by adding a frequency component to the measurement of a Balancing Authority's Area Control Error (ACE).⁸

⁸ Area Control Error is the instantaneous difference between a Balancing Authority's net actual and scheduled interchange, taking into accounts the effects of Frequency Bias, correction for meter error, and Automatic Time Error Correction (ATEC), if operating in the ATEC mode. ATEC is only applicable to Balancing Authorities in the Western Interconnection. NERC Glossary.

• BAL-002-3,⁹ Disturbance Control Standard—Contingency Reserve for Recovery from a Balancing Contingency Event.

⁹ It was approved in Docket No. RD18-7.

This standard ensures that a responsible entity, either a balancing authority or reserve sharing group, is able to recover from system contingencies by deploying adequate reserves to return their Area Control Error to defined values and replacing the capacity and energy lost due to generation or transmission equipment outages.

• BAL-003-1,¹⁰ Frequency Response and Frequency Bias Setting.

¹⁰ It was approved in Docket No. RM13-11; the current version is Reliability Standard BAL-003-1.1.

This standard requires sufficient Frequency Response from the Balancing Authority (BA) to maintain Interconnection Frequency within predefined bounds by arresting frequency deviations and supporting frequency until the frequency is restored to its scheduled value. It also ensures that balancing authority's Frequency Bias Setting is accurately calculated to match its actual Frequency Response. It provides consistent methods for measuring Frequency Response and determining the Frequency Bias Setting. Each balancing authority reports its previous year Frequency Response Measure and Frequency Bias Setting to NERC via FRS (Frequency Response Survey) Form 1. The information provided on the FRS Form 1 is based on events which qualify for analyses; NERC identifies between 20 to 35 events in each Interconnection for calculating the Frequency Response Measure and Frequency Bias Setting.

• BAL-005-1,¹¹ Balancing Authority Control.

¹¹ It was approved in Docket No. RM16-13.

This standard establishes requirements for acquiring data necessary to calculate Reporting Area Control Error (Reporting ACE). The standard also specifies a minimum periodicity, accuracy, and availability requirement for acquisition of the data and for providing the information to the System Operator. It requires balancing authorities to maintain minimum levels of annual availability of 99.5% for each balancing authority system for calculating Reporting ACE.

Type of Respondent: Balancing Authorities, Response Sharing Group, and Frequency Response Sharing Group.

Estimate of Annual Burden:¹² Our estimate of the number of respondents affected is based on the NERC Compliance Registry as of July 17, 2020.¹³ According to the Compliance Registry, NERC has registered 97 Balancing Authorities (BA), 11 Response Sharing Groups (RSG), and 1 Frequency Response Sharing Group (FRSG) within the United States, as noted. The burden estimates reflect the number of affected entities for each standard. Estimates for the average annual burden and cost ¹⁴ follow.

¹² Burden is defined as the total time, effort, or financial resources expended by persons to generate, maintain, retain, or disclose or provide information to or for a federal agency. See 5 CFR 1320 for additional information on the definition of information collection burden.

¹³ NERC Compliance Registry (July 17, 2020), available at https://www.nerc.com/pa/comp/Registration%20and%20Certification%20DL/NERC_Compliance_Registry_Matrix_Excel.xlsx.

¹⁴ The hourly cost estimates are based on wage data from the Bureau of Labor Statistics for May 2019 (at https://www.bls.gov/oes/current/naics2_22.htm) and benefits data for Dec. 2019 (issued March 2020, at https://www.bls.gov/news.release/ecec.nr0.htm). The hourly costs (for wages and benefits) are for: Electrical Engineer (Occupation code 17-2071), $70.19; and Information and Record Clerk (Occupation code 43-4199), $41.03.

FERC-725R
Function | Number & type of respondents | Number of annual responses per respondent | Total No. of annual responses | Average burden hours & cost ($) per response | Total annual burden hours & total annual cost ($)
| (1) | (2) | (1) × (2) = (3) | (4) | (3) × (4) = (5)
BAL-001-2
BA Reporting Requirements | 97 | 1 | 97 | 8 hrs.; $561.52 | 776 hrs.; $54,467.44.
BA Recordkeeping Requirements | 97 | 1 | 97 | 4 hrs.; $164.12 | 388 hrs.; $15,919.64.
BAL-002-3
BA & RSG Reporting Requirements | 108 | 1 | 108 | 8 hrs.; $561.52 | 864 hrs.; $60,644.16.
BA & RSG Recordkeeping Requirements | 108 | 1 | 108 | 4 hrs.; $164.12 | 432 hrs.; $17,724.96.
BAL-003-1.1
BA & FRSG Reporting Requirements | 98 | 28 | 2,744 | 8 hrs.; $561.52 | 21,952 hrs.; $1,540,810.88.
BA & FRSG Recordkeeping Requirements | 98 | 1 | 98 | 2 hrs.; $82.06 | 196 hrs.; $8,041.88.
BAL-005-1
BA Reporting Requirements | 97 | 1 | 97 | 1 hr.; $70.19 | 97 hrs.; $6,808.43.
BA Recordkeeping Requirements | 97 | 1 | 97 | 1 hr.; $41.03 | 97 hrs.; $3,979.91.
SUB-TOTAL FOR REPORTING REQUIREMENTS |  |  |  |  | 23,689 hrs.; $1,662,730.91.
SUB-TOTAL FOR RECORDKEEPING REQUIREMENTS |  |  |  |  | 1,113 hrs.; $45,666.39.
TOTAL FOR FERC-725R (rounded) |  |  |  |  | 24,802 hrs.; $1,708,397.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: August 21, 2020.
Kimberly D. Bose,
Secretary.

[FR Doc. 2020-18915 Filed 8-27-20; 8:45 am]

BILLING CODE 6717-01-P